DEPARTMENT OF DEFENSE

Department of the Army, Corps of Engineers

Notice of Intent To Prepare a Joint Environmental Impact Statement/Environmental Impact Report for the Proposed BNSF Cajon Subdivision Third Main Track Project Keenbrook to Summit, San Bernardino County, CA

AGENCY: Department of the Army, U.S. Army Corps of Engineers, DoD.

ACTION: Notice of Intent.

SUMMARY: The Los Angeles District intends to prepare a joint Environmental Impact Statement/Environmental Impact Report (EIS/EIR) to analyze the environmental effects of, and support the permit decision related to, the proposed construction of a third main track through a 15.9 mile section of the Cajon Subdivision, between Keenbrook (the southerly entrance to Cajon Pass) and Summit. The third track would be constructed on either the east or the west side of the existing tracks, depending on constraints at any given location, and would parallel the western/northern track alignment (Main Track 1), between Cajon and Summit. The purpose of the EIS/EIR is to evaluate alternative approaches to increase sustainable daily capacity of train movement along the portion of the mainline through Cajon Pass to meet demand for freight movement for the present and the future. The benefits of the additional third main track include increasing operational flexibility, increasing operational efficiency, reducing severe congestion during peak travel periods, and allowing for sufficiently frequent movements of trains and goods through the Cajon Pass. Alternatives include the addition of a third main track adjacent to the existing BNSF Main 1 through Cajon Pass with the installation of retaining walls and improvements to culverts and wildlife linkages; construction of a third main track within the existing BNSF right-of-way without environmentally sensitive design features; and the No Action/No Federal Action Alternative. The EIS/EIR will analyze the potential direct, indirect and cumulative impacts of the environmental range of alternatives, including the proposed project.

DATES: Submit comments on or before May 1, 2006.

ADDRESSES: Ms. Susan A. Meyer, Senior Project Manager, Regulatory Branch, U.S. Army Corps of Engineers, Los Angeles District, P.O. Box 532711, Los Angeles, CA 90053-2325.

FOR FURTHER INFORMATION CONTACT: Ms. Susan A. Meyer, (213) 452-3412; or e-mail: susan.a.meyer@usace.army.mil.

SUPPLEMENTARY INFORMATION: The U.S. Army Corps of Engineers intends to prepare a joint EIS/EIR to assess the environmental effects associated with the proposed BNSF Cajon Subdivision Third Main Track project Keenbrook to Summit, San Bernardino County, CA. Pursuant to the California Environmental Quality Act (CEQA), the County of San Bernardino is the state lead agency for the EIR pursuant to the California Environmental Quality Act (CEQA).

1. Project Description. The applicant, BNSF, now maintains two tracks that travel northerly from Keenbrook through Cajon Pass towards Barstow (Cajon Subdivision). The proposed third main track would be installed from Keenbrook to Summit, a distance of approximately 15.9 miles. Presently, there are three main tracks at Keenbrook and south the BNSF rail yards in San Bernardino. There are three main tracks at Summit and north for approximately 14,671 feet, or 2.77 miles. The applicant, BNSF, proposes to install the new track from Keenbrook to Summit on a 15-foot center (15 feet from the center line of the existing track to the center line of the new track), except for alignments on bridges. At bridges, the centerline would be set 25 feet from the centerline of the adjacent track. Most of the new track would be installed on either side of the existing tracks, depending on the existing right-of-way (ROW) and topographic constraints. Crossover points would be installed at Keenbrook, Cajon, Alray, and Silverwood/Summit. Most of the realignment would occur within the existing BNSF right-of-way on previously disturbed areas. The proposed project has been designed to minimize the footprint and minimize or avoid potential impacts to floodplains and wetlands, by using retaining wall structures along portions of the rail embankment.

Most of the new track alignment would follow existing cleared areas and maintenance roads. A new access road would be built adjacent to the new track for maintenance activities and to protect the track against rock fall and erosion. Existing maintenance roads would be maintained in areas where construction does not impact the current road, reestablished adjacent to the new track in impacted areas where possible, or eliminated where topography limits the footprint.

2. Corps Action. The U.S. Army Corps of Engineers has received an application from BNSF for a permit under Section 404 of the Clean Water Act. The proposed project includes activities (to widen existing culverts and some bridges), which are expected to result in the discharge of fill material into waters of the U.S. There are approximately 67 crossings subject to Section 404 jurisdiction included in the proposed project area. A number of these crossings are along Cajon Creek, which is a tributary to Lytle Creek, and which is a tributary to the Santa Ana River.

3. Alternatives. Three alternatives including the “No Action/No Federal Action” are currently being considered. The alternatives initially being considered for the proposed project include:

a. Alternative 1 (Environmental Optimal). Alternative 1 would be constructed from Summit (Milepost 55.82) to Keenbrook (Milepost 69.4), a distance of approximately 15.9 miles. BNSF is proposing to install the new track on a 15-foot center. The new track would be installed on either side of the existing Main Track 1 (west or east), depending upon the availability of the existing ROW and topographic constraints, including the 2.2% grade. Most of the realignment would occur within the existing BNSF ROW on previously disturbed areas. Retaining wall structures would be places in environmentally sensitive areas to reduce the footprint of disturbance to biological resources, including jurisdictional waters of the U.S. In addition, design features would be installed to enhance existing drainage structures for increased wildlife movement through existing linkages.

b. Alternative 2 (Engineering Optimal). The Engineering Optimal alternative would be similar in configuration to Alternative 1. However, optimal rail engineering and design methods would be utilized that do not include the more extensive, complex, and environmentally sensitive design features that are proposed with Alternative 1. Construction of the Engineering Optimal alternative would be less expensive and less difficult to implement than the Proposed Project, but would increase impacts to wetlands, floodplains, and other sensitive environmental resources. Alternative 2 would not include improvements to drainage structures or wildlife linkages.

c. Alternative 3 (No Action/No Federal Action). With the No Action/No Federal Action alternative a new third main track through Cajon Pass would not be constructed and present railroad operations in the region would continue. The No Federal Action (i.e., no 404 permits issued) would require construction of a third main track that would avoid the discharge of fill material in approximately 67 jurisdictional waterways/drainages. However, the placement and design of the third main track is necessarily limited by the narrow width of the existing ROW. As well, the area available for new track is constrained by terrain, changes in elevation, and jurisdictional waterways, including floodplains and wetlands. Lands immediately outside the BNSF ROW are owned by the U.S. Government, under the management of the U.S. Forest Service. Because of these limiting conditions, neither the existing Main Track 1 nor the proposed third main track can avoid impacting the approximate 67 jurisdictional waterways/drainages throughout the length of the project area. Therefore, if no Federal action is taken (i.e., no Section 404 permit is issued), then the third main track could not be built in the Cajon Pass.

4. Scoping. a. Potential impacts associated with the proposed action will be fully evaluated. Resource categories that will be analyzed are: Biology, air quality, hydrology, water quality, noise, vibration, cultural resources, paleontological resources, geology, land use, recreational resources, public services, hazards and hazardous materials, public health and safety, and socioeconomics (environmental justice).

b. The U.S. Army Corps of Engineers does not intend to hold a public scoping meeting for the EIS/EIR, however, scoping will be conducted prior to preparing an EIS/EIR to aid in the determination of significant environmental issues associated with the proposed project. The public, as well as Federal, State, and local agencies are encouraged to participate in the scoping process by submitting data, information, and comments identifying relevant environmental and socioeconomic issues to be addressed in the environmental analysis. Useful information includes other environmental studies, published and unpublished data, alternatives that could be addressed in the analysis, and potential mitigation measures associated with the proposed project.

c. Individual and agencies may offer information or data relevant to the environmental or socioeconomic impacts by submitting comments, suggestions, and requests to be placed on the mailing list for announcements to (see ADDRESSES) or the following e-mail address: susan.a.meyer@usace.army.mil.

5. Availability of the Draft EIS/EIR: The Draft EIS/EIR is scheduled to be published and circulated in July 2006. Pursuant to CEQA, a public hearing on the EIS/EIR will be held by the County of San Bernardino following its publication.

Dated: March 23, 2006.
David J. Castanon,
Chief, Regulatory Branch.

[FR Doc. 06-3143 Filed 3-30-06; 8:45 am]

BILLING CODE 3710-KF-M